PEACE CORPS

Proposed Collection Renewal

ACTION: 60-Day notice and request for comments.

SUMMARY: The Peace Corps will be submitting the following information collection request to the Office of Management and Budget (OMB) for extension, with change, of a currently approved information collection. In compliance with the Paperwork Reduction Act of 1995 (44 U.S.C. Chapter 35), the Peace Corps invites the general public to comment on the renewal, with change to Crisis Corps Volunteer Application Form (OMB Control No. 0420-0533). This process is conducted in accordance with 5 CFR 1320.10.

DATES: Comments must be submitted on or before October 19, 2010.

ADDRESSES: Comments should be addressed to Denora Miller, FOIA Officer, Peace Corps, 1111 20th Street, NW., Washington, DC 20526. Denora Miller can be contacted by telephone at 202-692-1236 or e-mail at pcfr@peacecorps.gov; mailto:ddunevant@peacecorps.gov. E-mail comments must be made in text and not in attachments.

FOR FURTHER INFORMATION CONTACT: Denora Miller, at Peace Corps address above.

SUPPLEMENTARY INFORMATION: Proposal to renew a currently approved collection of information:

OMB Control Number: 0420-0533.

Old Title: Peace Corps Crisis Corps Application Form.

New Title: Peace Corps Response Application Form.

Type of Review: Extension, with change, of a currently approved information collection. A section was added to address specific qualifications for which the applicant is applying: “Please explain how your skills and experience will lead to the overall success of this project.”

Respondents: Returned Peace Corps Volunteers.

Respondents Obligation to Reply: Voluntary.

Burden to the Public:

a. Annual reporting burden: 42 hours.

b. Estimated average burden response: 7 minutes.

c. Frequency of response: Once.

d. Estimated number of likely respondents: 1,000.

General description of collection: The purpose of this information collection is necessary in order to identify prospective, interested, and available Returned Peace Corps Volunteers who are interested in Peace Corps Response. The information is used to determine availability, suitability and potential Peace Corps Response placement applicants.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

Dated: August 13, 2010.
Garry W. Stanberry,
Deputy Associate Director for Management.

[FR Doc. 2010-20642 Filed 8-19-10; 8:45 am]

BILLING CODE 6051-01-P